DEPARTMENT OF COMMERCE

National Oceanic and Atmospheric Administration

[RTID 0648-XE946]

New England Fishery Management Council; Public Meeting

AGENCY: National Marine Fisheries Service (NMFS), National Oceanic and Atmospheric Administration (NOAA), Commerce.

ACTION: Notice of public meeting.

SUMMARY: The New England Fishery Management Council (Council) is scheduling a webinar of its Risk Policy Working Group to consider actions affecting New England fisheries in the exclusive economic zone (EEZ). Recommendations from this group will be brought to the full Council for formal consideration and action, if appropriate.

DATES: This webinar will be held on Wednesday, June 18, 2025, at 12:30 p.m.

ADDRESSES:

Council address: New England Fishery Management Council, 50 Water Street, Mill 2, Newburyport, MA 01950.

Webinar registration URL information: https://nefmc-org.zoom.us/meeting/register/h0SvkdVfTTSvpu-vEL-KUw.

FOR FURTHER INFORMATION CONTACT: Cate O'Keefe, Executive Director, New England Fishery Management Council; phone: (978) 465-0492.

SUPPLEMENTARY INFORMATION:

Agenda

The Risk Policy Working Group will receive an update on simulation testing of the Risk Policy. They will also discuss use of the Risk Policy in upcoming Council actions, focusing on the development of any refinements and/or clarifications to the Risk Policy Matrix and guidance for Plan Development Teams for 2025. The group will discuss and make recommendations on the continued development of the Risk Policy, and review results and feedback from the Risk Policy weightings exercise at the April Council meeting. Other business will be discussed, if necessary.

Although non-emergency issues not contained on the agenda may come before this Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

(Authority: 16 U.S.C. 1801 et seq.)

Dated: May 30, 2025.
Rey Israel Marquez,
Acting Deputy Director, Office of Sustainable Fisheries, National Marine Fisheries Service.

[FR Doc. 2025-10172 Filed 6-3-25; 8:45 am]

BILLING CODE 3510-22-P